SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1 through February 28, 2014.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above.

Approvals by Rule Issued Under 18 CFR 806.22(f)

1. Seneca Resources, Pad ID: Rich Valley Pad G, ABR-201402001, Shippen Township, Cameron County, Pa.; Consumptive Use of Up to 4.000 mgd; Approval Date: February 3, 2014.

2. Seneca Resources, Pad ID: Rich Valley Pad F, ABR-201402002, Shippen Township, Cameron County, Pa.; Consumptive Use of Up to 4.000 mgd; Approval Date: February 3, 2014.

3. Southwestern Energy Production Company, Pad ID: WY O5 DZIUBA BENJAMIN PAD, ABR-201402003, Eaton Township, Wyoming County, Pa.; Consumptive Use of Up to 4.999 mgd; Approval Date: February 7, 2014.

4. Cabot Oil & Gas Corporation, Pad ID: HullR P1, ABR-20090702.R1, Springville Township, Susquehanna County, Pa.; Consumptive Use of Up to 3.575 mgd; Approval Date: February 7, 2014.

5. Cabot Oil & Gas Corporation, Pad ID: Heitsman P1A, ABR-20090703.R1, Springville Township, Susquehanna County, Pa.; Consumptive Use of Up to 3.575 mgd; Approval Date: February 7, 2014.

6. Cabot Oil & Gas Corporation, Pad ID: Gesford P2, ABR-20090705.R1, Dimock Township, Susquehanna County, Pa.; Consumptive Use of Up to 3.575 mgd; Approval Date: February 7, 2014.

7. Cabot Oil & Gas Corporation, Pad ID: HunsingerA P1, ABR-20090736.R1, Dimock Township, Susquehanna County, Pa.; Consumptive Use of Up to 3.575 mgd; Approval Date: February 7, 2014.

8. Cabot Oil & Gas Corporation, Pad ID: BrooksJ P1, ABR-20090733.R1, Springville Township, Susquehanna County, Pa.; Consumptive Use of Up to 3.575 mgd; Approval Date: February 7, 2014.

9. Cabot Oil & Gas Corporation, Pad ID: Elk Lake School District P1, ABR-20090737.R1, Dimock Township, Susquehanna County, Pa.; Consumptive Use of Up to 3.575 mgd; Approval Date: February 7, 2014.

10. Cabot Oil & Gas Corporation, Pad ID: ChudleighW P1, ABR-20090738.R1, Springville Township, Susquehanna County, Pa.; Consumptive Use of Up to 3.575 mgd; Approval Date: February 7, 2014.

11. Talisman Energy USA Inc., Pad ID: 07-038 Kropiewnicki J, ABR-201402004, Apolacon Township, Susquehanna County, Pa.; Consumptive Use of Up to 6.000 mgd; Approval Date: February 10, 2014.

12. Talisman Energy USA Inc., Pad ID: 07-088 York R, ABR-201402005, Little Meadows Borough and Apolacon Township, Susquehanna County, Pa.; Consumptive Use of Up to 6.000 mgd; Approval Date: February 10, 2014.

13. Range Resources—Appalachia, LLC, Pad ID: Cornwall 1H-5H, ABR-201402006, Lewis Township, Lycoming County, Pa.; Consumptive Use of Up to 5.000 mgd; Approval Date: February 10, 2014.

14. Southwestern Energy Production Company, Pad ID: WY O2 HARDING PAD, ABR-201402007, Tunkhannock Township, Wyoming County, Pa.; Consumptive Use of Up to 4.999 mgd; Approval Date: February 10, 2014.

15. Talisman Energy USA Inc., Pad ID: 07-089 Corey J, ABR-201402008, Choconut Township, Susquehanna County, Pa.; Consumptive Use of Up to 6.000 mgd; Approval Date: February 10, 2014.

16. Chief Oil & Gas LLC, Pad ID: Phelps Unit #1H, ABR-20090813.R1, Lathrop Township, Susquehanna County, Pa.; Consumptive Use of Up to 5.000 mgd; Approval Date: February 10, 2014.

17. Range Resources—Appalachia, LLC, Pad ID: Grays Run 1H-5H, ABR-201402009, Jackson Township, Lycoming County, Pa.; Consumptive Use of Up to 5.000 mgd; Approval Date: February 14, 2014.

18. Southwestern Energy Production Company, Pad ID: RU-65-LEONARD-PAD, ABR-201402010, Jackson Township, Susquehanna County, Pa.; Consumptive Use of Up to 4.999 mgd; Approval Date: February 14, 2014.

19. Talisman Energy USA Inc., Pad ID: 07-077 Caprio S, ABR-201402011, Apolacon Township, Susquehanna County, Pa.; Consumptive Use of Up to 6.000 mgd; Approval Date: February 14, 2014.

20. Anadarko E&P Onshore, LLC, Pad ID: COP Tr 259 #1001H, ABR-20090440.R1, Burnside Township, Centre County, Pa.; Consumptive Use of Up to 5.000 mgd; Approval Date: February 14, 2014.

21. Anadarko E&P Onshore, LLC, Pad ID: COP Tr 259 #1000H, ABR-20090513.R1, Burnside Township, Centre County, Pa.; Consumptive Use of Up to 5.000 mgd; Approval Date: February 14, 2014.

22. Anadarko E&P Onshore, LLC, Pad ID: Larry's Creek F&G 2H, ABR-20090411.R1, Cummings Township, Lycoming County, Pa.; Consumptive Use of Up to 4.000 mgd; Approval Date: February 18, 2014.

23. Anadarko E&P Onshore, LLC, Pad ID: Larry's Creek F&G 3H, ABR-20090416.R1, Cummings Township, Lycoming County, Pa.; Consumptive Use of Up to 4.000 mgd; Approval Date: February 18, 2014.

24. Anadarko E&P Onshore, LLC, Pad ID: WW Litke #1H, ABR-20090817.R1, Curtin Township, Centre County, Pa.; Consumptive Use of Up to 5.000 mgd; Approval Date: February 18, 2014.

25. Anadarko E&P Onshore, LLC, Pad ID: COP Tr 678 #1000H, ABR-20090820.R1, Noyes Township, Clinton County, Pa.; Consumptive Use of Up to 5.000 mgd; Approval Date: February 18, 2014.

26. Anadarko E&P Onshore, LLC, Pad ID: COP Tr 678 #1001H & #1002H, ABR-20090821.R1, Noyes Township, Clinton County, Pa.; Consumptive Use of Up to 5.000 mgd; Approval Date: February 18, 2014.

27. Anadarko E&P Onshore, LLC, Pad ID: Tx Gulf B #1H, ABR-20090822.R1, Beech Creek Township, Clinton County, Pa.; Consumptive Use of Up to 5.000 mgd; Approval Date: February 18, 2014.

28. Anadarko E&P Onshore, LLC, Pad ID: Tx Gulf B #2H & #3H, ABR-20090823.R1, Beech Creek Township, Clinton County, Pa.; Consumptive Use of Up to 5.000 mgd; Approval Date: February 18, 2014.

29. Cabot Oil & Gas Corporation, Pad ID: BrooksW P1, ABR-20090701.R1, Springville Township, Susquehanna County, Pa.; Consumptive Use of Up to 3.575 mgd; Approval Date: February 18, 2014.

30. Cabot Oil & Gas Corporation, Pad ID: MakoskyT P1, ABR-201402012, Brooklyn Township, Susquehanna County, Pa.; Consumptive Use of Up to 4.250 mgd; Approval Date: February 24, 2014.

31. Cabot Oil & Gas Corporation, Pad ID: MillardK P1, ABR-201402013, Jessup Township, Susquehanna County, Pa.; Consumptive Use of Up to 4.250 mgd; Approval Date: February 24, 2014.

32. Cabot Oil & Gas Corporation, Pad ID: Teel P7, ABR-20090704.R1, Springville Township, Susquehanna County, Pa.; Consumptive Use of Up to 3.575 mgd; Approval Date: February 24, 2014.

33. Cabot Oil & Gas Corporation, Pad ID: SmithR P2, ABR-20090707.R1, Springville Township, Susquehanna County, Pa.; Consumptive Use of Up to 3.575 mgd; Approval Date: February 24, 2014.

34. Cabot Oil & Gas Corporation, Pad ID: LarueC P2, ABR-20090706.R1, Dimock Township, Susquehanna County, Pa.; Consumptive Use of Up to 3.575 mgd; Approval Date: February 24, 2014.

35. Cabot Oil & Gas Corporation, Pad ID: BrooksW P2, ABR-20090724.R1, Springville Township, Susquehanna County, Pa.; Consumptive Use of Up to 3.575 mgd; Approval Date: February 24, 2014.

36. Anadarko E&P Onshore, LLC, Pad ID: COP Tr 252 #1000H, ABR-20090444.R1, Grugan Township, Clinton County, Pa.; Consumptive Use of Up to 5.000 mgd; Approval Date: February 28, 2014.

37. Anadarko E&P Onshore, LLC, Pad ID: COP Tr 252 #1001H & #1002H, ABR-20090445.R1, Grugan Township, Clinton County, Pa.; Consumptive Use of Up to 5.000 mgd; Approval Date: February 28, 2014.

38. Chesapeake Appalachia, LLC, Pad ID: Hannan, ABR-20090520.R1, Troy Township, Bradford County, Pa.; Consumptive Use of Up to 7.5000 mgd; Approval Date: February 28, 2014.

39. Chesapeake Appalachia, LLC, Pad ID: Isbell, ABR-20090521.R1, Burlington Township, Bradford County, Pa.; Consumptive Use of Up to 7.5000 mgd; Approval Date: February 28, 2014.

40. Chesapeake Appalachia, LLC, Pad ID: Otten, ABR-20090526.R1, Asylum Township, Bradford County, Pa.; Consumptive Use of Up to 7.5000 mgd; Approval Date: February 28, 2014.

41. Chesapeake Appalachia, LLC, Pad ID: John Barrett, ABR-20090529.R1, Asylum Township, Bradford County, Pa.; Consumptive Use of Up to 7.5000 mgd; Approval Date: February 28, 2014.

42. Chesapeake Appalachia, LLC, Pad ID: James Barrett, ABR-20090530.R1, Asylum Township, Bradford County, Pa.; Consumptive Use of Up to 7.5000 mgd; Approval Date: February 28, 2014.

43. Chief Oil & Gas LLC, Pad ID: Polovitch Unit #1H, ABR-20090826.R1, Nicholson Township, Wyoming County, Pa.; Consumptive Use of Up to 5.000 mgd; Approval Date: February 28, 2014.

Authority: Pub. L. 91-575, 84 Stat. 1509 et seq., 18 CFR Parts 806, 807, and 808.

Dated: June 24, 2014.
Stephanie L. Richardson,
Secretary to the Commission.

[FR Doc. 2014-15364 Filed 6-30-14; 8:45 am]

BILLING CODE 7040-01-P